DEPARTMENT OF THE INTERIOR

Bureau of Land Management

[ORE000.L58820000 PH0000 LXRSEE990000 HAG11-0265]

Notice of Public Meetings for the Eugene District Resource Advisory Committee

AGENCY: Bureau of Land Management, Interior.

ACTION: Notice of public meetings.

SUMMARY: In accordance with the Emergency Economic Stabilization Act of 2008, Title VI, Secure Schools and Community Self-Determination Program (H.R. 1424), the Federal Land Policy and Management Act, and the Federal Advisory Committee Act of 1972, the U.S. Department of the Interior, Bureau of Land Management (BLM), Eugene District Resource Advisory Committee will meet as indicated below.

DATES: The meetings will be held on August 4, 2011, beginning at 9 a.m. and ending at approximately 12 p.m.; August 12, 2011, beginning at 8:30 a.m. and ending at approximately 5 p.m.; and September 1, 2011, beginning at 8:30 a.m. and ending at approximately 5 p.m. If unfinished business necessitates, a meeting will be held on September 2, 2011, beginning at 8:30 a.m. and ending at 5 p.m. All times are Pacific Daylight Saving Time.

ADDRESSES: The meetings will take place at the BLM, Eugene District Office, Springfield Interagency Center, 3106 Pierce Parkway, Suite E, Springfield, OR 97477.

FOR FURTHER INFORMATION CONTACT: Patricia K. Johnston, Bureau of Land Management, P.O. Box 10226, Eugene, Oregon 97440-2226, (541) 683-6181 or e-mail pat_johnston@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Eugene District Resource Advisory Committee was appointed originally by the Secretary of the Interior pursuant to the Secure Rural Schools and Community Self-Determination Act of 2000 (Pub. L. 106-393) and re-authorized by the Emergency Economic Stabilization Act of 2008, Title VI, Secure Schools and Community Self-Determination Program (H.R. 1424). Topics to be discussed by the Eugene District Resource Advisory Committee at these meetings include reviewing project proposals meeting the requirements under Section 201, H.R. 1424, “Title II—Special Projects on Federal Land,” recommending funding for such projects to the Secretary of the Interior, and other matters as may reasonably come before the council.

All meetings are open to the public in their entirety. Public comment is generally scheduled from 11:30 a.m. to 12 p.m., each meeting session. The amount of time scheduled for public presentations and meeting times may be extended when the authorized representative considers it necessary to accommodate all who seek to be heard regarding matters on the agenda.

Virginia Grilley,
Eugene District Manager.

[FR Doc. 2011-15835 Filed 6-23-11; 8:45 am]

BILLING CODE 4310-33-P